DEPARTMENT OF AGRICULTURE

Forest Service

36 CFR Part 251

RIN 0596-AB36

Land Uses; Special Uses; Recovery of Costs for Processing Special Use Applications and Monitoring Compliance With Special Use Authorizations; Extension of Comment Period

AGENCY: Forest Service, USDA.

ACTION: Proposed rule; extension of the comment period.

SUMMARY: On November 24, 1999, the Department of Agriculture, Forest Service, published proposed regulations for recovering costs associated with processing applications for special use authorizations to use and occupy National Forest System lands and monitoring compliance with these special use authorizations (64 FR 66342). The provisions of this proposed rule would apply to applications and authorizations for use of National Forest System lands. On December 29, 1999, the agency extended the comment period to February 24, 2000 (64 FR 72971). The agency is extending the comment period another 14 days to March 9, 2000, to respond to additional requests from organizations and individuals who have requested more time to review and comment on the document.

DATES: Comments must be received in writing by March 9, 2000.

ADDRESSES: Send written comments to Director, Lands Staff, 2720, 4th Floor-South, Sidney R. Yates Federal Building, Forest Service, USDA, P.O. Box 96090, Washington, DC 20090-6090. Submit electronic comments (as an ASCII file if possible) to: gtlands4/wo@fs.fed.us.

Please confine written comments to issues pertinent to the proposed rule and explain the reasons for any recommended changes. Where possible, reference the specific section or paragraph you are addressing. The Forest Service may not include in the administrative record for the proposed rule those comments it receives after the comment period closes (see DATES) or comments delivered to an address other than those listed in ADDRESSES.

You may view an electronic version of this proposed rule at the Forest Service Internet home page at: http://www.fs.fed.us/recreation/permits/.

All comments, including the names, street addresses, and other contact information about respondents, are placed in the record and are available for public review and copying at the above address during regular business hours (8:30 a.m. to 4:30 p.m.), Monday through Friday, except holidays. Those wishing to inspect comments are encouraged to call ahead, (202) 205-1256, to facilitate access to the building.

FOR FURTHER INFORMATION CONTACT: Randy Karstaedt, Lands Staff, (202) 205-1256 or Ken Karkula, Recreation, Heritage, and Wilderness Resources Staff, (202) 205-1426.

Dated: February 17, 2000.
Hilda Diaz-Soltero,
Associate Chief for Natural Resources.

[FR Doc. 00-4384 Filed 2-24-00; 8:45 am]

BILLING CODE 3410-11-P